DEPARTMENT OF DEFENSE

Office of the Secretary

[Transmittal No. 24-104]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-104, Policy Justification, and Sensitivity of Technology.

Dated: January 13, 2026.
Stephanie J. Bost,
Alternate OSD Federal Register Liaison Officer, Department of Defense.

BILLING CODE 6001-FR-P

BILLING CODE 6001-FR-C

Transmittal No. 24-104

Notice of Proposed Issuance of Letter of Offer Pursuant to Section 36(b)(1) of the Arms Export Control Act

(i) Prospective Purchaser: Government of Israel

(ii) Total Estimated Value:

Major Defense Equipment * | $648 million
Other | $ 12 million
TOTAL | $660 million

Funding Source: Foreign Military Financing

(iii) Description and Quantity or Quantities of Articles or Services under Consideration for Purchase:

Major Defense Equipment (MDE):

Three thousand (3,000) AGM-114 Hellfire Air-to-Ground Missiles, to include one or any combination of the R3, F, F/A, K1, K1A, K2, K3, K3A, KA, N, N3, and/or R variants.

Non-Major Defense Equipment:

The following non-MDE items will also be included: support and test equipment; integration and test support; spare and repair parts; software delivery and support; publications and technical documentation; personnel training and training equipment; United States (U.S.) Government and contractor engineering; technical and logistics support services; storage; and other related elements of logistics and program support.

(iv) Military Department: Army (IS-B-UCJ)

(v) Prior Related Cases, if any: IS-B-UBV, IS-B-ZWX, IS-B-ZVJ

(vi) Sales Commission, Fee, etc., Paid, Offered, or Agreed to be Paid: None known at this time.

(vii) Sensitivity of Technology Contained in the Defense Article or Defense Services Proposed to be Sold: See Attached Annex

(viii) Date Report Delivered to Congress: February 7, 2025

* as defined in Section 47(6) of the Arms Export Control Act.

POLICY JUSTIFICATION

Israel—AGM-114 Hellfire Missiles

The Government of Israel has requested to buy three thousand (3,000) AGM-114 Hellfire Air-to-Ground Missiles, to include one or any combination of the R3, F, F/A, K1, K1A, K2, K3, K3A, KA, N, N3, and/or R variants. The following non-MDE items will also be included: support and test equipment; integration and test support; spare and repair parts; software delivery and support; publications and technical documentation; personnel training and training equipment; U.S. Government and contractor engineering; technical and logistics support services; storage; and other related elements of logistics and program support. The estimated total cost is $660 million.

The U.S. is committed to the security of Israel, and it is vital to U.S. national interests to assist Israel to develop and maintain a strong and ready self-defense capability. This proposed sale is consistent with those objectives.

The proposed sale will improve Israel's capability to meet current and future threats by improving the ability of the Israeli Air Force to defend Israel's borders, vital infrastructure, and population centers. This sale will increase interoperability with U.S. forces and conveys U.S. commitment to Israel's security and armed forces modernization. Israel will have no difficulty absorbing this equipment into its armed forces.

The proposed sale of this equipment and support will not alter the basic military balance in the region.

The principal contractor will be the Lockheed Martin Corporation, located in Troy, AL. At this time, the U.S. Government is not aware of any offset agreement proposed in connection with this potential sale. Any offset agreement will be defined in negotiations between the purchaser and the contractor.

Implementation of this proposed sale will not require the assignment of any additional U.S. Government or contractor representatives to Israel. The only additional U.S. military support required would be Technical Assistance Field Team visits during training phases.

There will be no adverse impact on U.S. defense readiness as a result of this proposed sale.

Transmittal No. 24-104

Notice of Proposed Issuance of Letter of Offer Pursuant to Section 36(b)(1) of the Arms Export Control Act

Annex

Item No. vii

(vii) Sensitivity of Technology:

1. The AGM-114 is an air-to-surface missile. The Hellfire Missile provides precision striking power against light armored targets, thin skinned vehicles, urban structures, bunkers, caves and personnel.

2. The highest level of classification of defense articles, components, and services included in this potential sale is SECRET.

3. If a technologically advanced adversary were to obtain knowledge of the specific hardware and software elements, the information could be used to develop countermeasures that might reduce weapon effectiveness or be used in the development of a system with similar or advanced capabilities.

4. A determination has been made that the Government of Israel can provide substantially the same degree of protection for the sensitive technology being released as the U.S. Government. This sale is necessary in furtherance of the U.S. foreign policy and national security objectives outlined in the Policy Justification.

5. All defense articles and services listed in this transmittal have been authorized for release and export to the Government of Israel.

[FR Doc. 2026-00767 Filed 1-15-26; 8:45 am]

BILLING CODE 6001-FR-P